Executive Order 13379 of June 16, 2005

Amendment to Executive Order 13369, Relating to the President's Advisory Panel on Federal Tax Reform

By the authority vested in me as President by the Constitution and the laws of the United States of America, and to extend the reporting deadline of the President's Advisory Panel on Federal Tax Reform, it is hereby ordered as follows:

Section 1. Section 5 of Executive Order 13369 of January 7, 2005, is amended by deleting “July 31, 2005” and inserting in lieu thereof “September 30, 2005”.

Sec. 2. This order is not intended to, and does not, create any right or benefit, substantive or procedural, enforceable at law or in equity, against the United States, its departments, agencies, entities, officers, employees or agents, or any other person.

B

THE WHITE HOUSE,

June 16, 2005.

[FR Doc. 05-12284

Filed 6-17-05; 10:40 am]

Billing code 3195-01-P